FEDERAL COMMUNICATIONS COMMISSION

[WT Docket No. 03-187; DA 04-3891; DA 04-4021]

Migratory Birds Notice of Inquiry Proceeding

AGENCY: Federal Communications Commission.

ACTION: Notice.

SUMMARY: The document gives parties an opportunity to comment on a report that Avatar Environmental, LLC, prepared as part of the Federal Communications Commission's Migratory Birds Notice of Inquiry proceeding. Avatar's report is entitled Notice of Inquiry Comment Review Avian/Communication Tower Collisions, Final, Prepared for Federal Communications Commission. The public notice also sets forth the due dates for the filing of comments and reply comments.

DATES: Comments are due February 14, 2005. Reply comments are due March 14, 2005.

ADDRESSES: See SUPPLEMENTARY INFORMATION for filing instructions.

FOR FURTHER INFORMATION CONTACT: Louis Peraertz, Spectrum and Competition Policy Division, Wireless Telecommunications Bureau, Federal Communications Commission, (202) 418-1879.

SUPPLEMENTARY INFORMATION:

Background About the Migratory Birds NOI Proceeding and Avatar's Report

On August 20, 2003, the Commission released a Notice of Inquiry (NOI), In the Matter of Effects of Communications Towers on Migratory Birds, 68 FR 53696, September 12, 2003, to develop a record on how, and to what extent, migratory birds may be affected by our nation's communications infrastructure. The NOI sought comment on existing scientific research concerning the number of migratory bird collisions with communications towers and the role that specific factors, such as lighting, height and type of antenna structure, weather, location, physiographic features of sites, and migration paths, may have in increasing or decreasing the incidence of such collisions. A number of parties filed comments in which they referred to scientific studies of past incidents of migratory birds colliding with communications towers.

To help the Commission evaluate these scientific studies, the Commission retained Avatar Environmental, LLC, (Avatar) an environmental risk consulting firm. After reviewing the scientific studies referred to by the comments and reply comments, Avatar submitted a report of its findings, entitled Notice of Inquiry Comment Review Avian/Communication Tower Collisions, Final, Prepared for Federal Communications Commission. The public notice gives parties an opportunity to comment on Avatar's report.

Parties who choose to file by paper must file an original and four copies of each filing. All filings by mail (including U.S. Postal Service Express Mail, Priority Mail, and First Class Mail) must be sent to the Commission's Secretary, Marlene H. Dortch, Federal Communications Commission, Office of the Secretary, 445 12th Street, SW., Washington DC 20054.

All filings sent to the Commission by overnight delivery, e.g., Federal Express (other than by U.S. Postal Service Express Mail and Priority Mail), must be sent to the Commission's Secretary, Marlene H. Dortch, Federal Communications Commission, Office of the Secretary, 9300 East Hampton Drive, Capitol Heights, MD 20743.

All hand-delivered or messenger-delivered filings must be delivered to the Commission's filing location at 236 Massachusetts Avenue, NE., Suite 110, Washington, DC 20002-4913. The filing hours at this facility are 8 a.m. to 7 p.m. All hand deliveries must be held together with rubber bands or fasteners. Any envelopes must be disposed of before entering the building.

Comments and reply comments will be available for public inspection during regular business hours in the FCC Reference Information Center, Federal Communications Commission, 445 12th Street, SW., Room CY-A257, Washington, DC 20554. The SUPPLEMENTARY INFORMATION section has instructions on how to review these documents electronically.

Additional Instructions for Filing and Reviewing Documents

Parties who choose to file by paper should also submit their comments on diskette to: Louis Peraertz, Spectrum and Competition Policy Division, Wireless Telecommunications Bureau, Federal Communications Commission, 445 12th Street, SW., Washington, DC 20554. The required diskette copies of submissions should be on 3.5-inch diskettes formatted in an IBM-compatible format using Microsoft Word or compatible software. Each diskette should be accompanied by a cover letter and should be submitted in “read only” mode. The diskette should be clearly labeled with the commenter's name, proceeding, type of pleading (comment or reply comment), date of submission, and the name of the electronic file on the diskette. The label should also include the following phrase “Disk Copy—Not an Original.” Each diskette should contain only one party's pleadings, preferably in a single electronic file. In addition, commenters must send diskette copies to the Commission's copy contractor, Best Copy and Printing, Inc., 445 12th Street, SW., CY-B402, Washington, DC 20554.

Comments may be filed using the Commission's Electronic Comment Filing System (ECFS) or by filing paper copies. Given recent changes in the Commission's mail delivery system, parties are strongly urged to use the ECFS to file their pleadings. Comments filed through the ECFS can be sent as an electronic file via the Internet to http://www.fcc.gov/e-file/ecfs.html. Generally, only one copy of an electronic submission must be filed. In completing the transmittal screen, electronic filers should include their full name, Postal Service mailing address, and the applicable docket number. Parties may also submit an electronic comment by Internet e-mail. To receive filing instructions for e-mail comments, commenters should send an e-mail to ecfs@fcc.gov, and should include the following words in the body of the message, “get form <your e-mail address>.” A sample form and directions will be sent in reply.

These documents also will be available electronically from the Commission's Electronic Comment Filing System. Copies of filings in this proceeding may be obtained from Best Copy and Printing, Inc., Portals II, 445 12th Street, SW., Room CY-B402, Washington, DC 20554, telephone (202) 863-2893, facsimile (202) 863-2898, or via e-mail at http://www.bcpiweb.com. To request materials in accessible formats for people with disabilities (braille, large print, electronic files, audio format), send an e-mail to fcc504@fcc.gov or call the Consumer & Governmental Affairs Bureau at 202-418-0531 (voice), 202-418-7365 (tty).

Federal Communications Commission.
William W. Kunze,
Chief, Spectrum and Competition Policy Division, Wireless Telecommunications Bureau.

[FR Doc. 04-28652 Filed 12-30-04; 8:45 am]

BILLING CODE 6712-01-P